DEPARTMENT OF LABOR

Employment and Training Administration

[TA-W-62,718]

Fraser Timber Limited Including On-Site Leased Workers of Tempo Employment Services; Ashland, ME; Notice of Revised Determination on Reconsideration

On April 28, 2008, the Department issued an Affirmative Determination Regarding Application on Reconsideration applicable to workers and former workers of the subject firm. The notice was published in the Federal Register on May 7, 2008 (73 FR 25772).

The previous investigation initiated on January 23, 2008, resulted in a negative determination issued on March 14, 2008, that was based on the finding that imports of lumber and woodchips did not contribute importantly to worker separations at the subject firm and no shift in production to a foreign source occurred. The denial notice was published in the Federal Register on March 26, 2008 (73 FR 16064).

In the request for reconsideration, the company official provided additional information regarding the subject firm's customers and also requested the Department of Labor conduct further analysis of imports of lumber and woodchips.

The Department reviewed responses of a sample customer survey conducted during the initial investigation. On further analysis, it has been determined that a significant number of customers increased their reliance on imports of lumber and woodchips while decreasing their purchases from the subject firm from 2006 to 2007.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

The investigation revealed that Fraser Timber Limited leased workers from Tempo Employment Services to work on-site at the Ashland, Maine, plant.

Conclusion

After careful review of the additional facts obtained on reconsideration, I conclude that increased imports of articles like or directly competitive with those produced at Fraser Timber Limited, Ashland, Maine, contributed importantly to the declines in sales or production and to the total or partial separation of workers at the subject firm. In accordance with the provisions of the Act, I make the following certification:

All workers of Fraser Timber Limited, including on-site leased workers of Tempo Employment Services, Ashland, Maine, who became totally or partially separated from employment on or after January 19, 2007, through two years from the date of this certification, are eligible to apply for adjustment assistance under Section 223 of the Trade Act of 1974, and are eligible to apply for alternative trade adjustment assistance under Section 246 of the Trade Act of 1974.

Signed in Washington, DC, this 13th day of May 2008.
Elliott S. Kushner,
Certifying Officer, Division of Trade Adjustment Assistance.

[FR Doc. E8-11369 Filed 5-21-08; 8:45 am]

BILLING CODE 4510-FN-P